DEPARTMENT OF ENERGY

Federal Energy Regulatory Commission

[Docket No. CP06-018-000]

Tennessee Gas Pipeline Company; Notice of Intent To Prepare an Environmental Assessment for the Proposed Essex-Middlesex Project; Request for Comments on Environmental Issues, and Notice of Site Visit and Public Scoping Meeting

November 28, 2005.

The staff of the Federal Energy Regulatory Commission (FERC or Commission) will prepare an environmental assessment (EA) that will discuss the environmental impacts of the Essex-Middlesex Project involving construction and operation of facilities by Tennessee Gas Pipeline Company (Tennessee Gas) in Essex and Middlesex Counties, Massachusetts.¹ These facilities would consist of about 7.8 miles of 24-inch-diameter pipeline and aboveground pig receiver and tie-in facilities. This EA will be used by the Commission in its decision-making process to determine whether the project is in the public convenience and necessity.

¹ Tennessee Gas' application was filed with the Commission under section 7 of the Natural Gas Act and Part 157 of the Commission's regulations.

If you are a landowner receiving this notice, you may be contacted by a pipeline company representative about the acquisition of an easement to construct, operate, and maintain the proposed facilities. The pipeline company would seek to negotiate a mutually acceptable agreement. However, if the project is approved by the Commission, that approval conveys with it the right of eminent domain. Therefore, if easement negotiations fail to produce an agreement, the pipeline company could initiate condemnation proceedings in accordance with state law.

A fact sheet prepared by the FERC entitled “An Interstate Natural Gas Facility On My Land? What Do I Need To Know?” was attached to the project notice Tennessee Gas provided to landowners. This fact sheet addresses a number of typically asked questions, including the use of eminent domain and how to participate in the Commission's proceedings. It is available for viewing on the FERC Internet Web site (http://www.ferc.gov).

Summary of the Proposed Project

Tennessee Gas wants to increase its ability to receive and transport gas into the Northeast natural gas pipeline network by constructing its facilities in Essex and Middlesex Counties, Massachusetts to provide up to 82,300 decatherms per day of incremental firm transportation capacity. Tennessee Gas would connect its Beverly-Salem Line 270C-100 near Saugus, Massachusetts to its DOMAC Line 270C-1100 near Lynnfield, Massachusetts. The proposed alignment follows New England Power Company's (NEPCO) powerline right-of-way. Tennessee Gas seeks authority to construct and operate:

• 7.8 miles of 24-inch-diameter pipeline in Essex and Middlesex Counties, Massachusetts;

• One tie-in facility at the northern terminus, milepost 7.83;

• One new pig receiver at the north end, milepost 7.62; and

• One tie-in facility at the southern terminus, milepost 0.0.

The general location of the project facilities is shown in Appendix 1.²

² The appendices referenced in this notice are not being printed in the Federal Register. Copies of all appendices, other than Appendix 1 (maps), are available on the Commission's Web site at the “eLibrary” link or from the Commission(s Public Reference Room, 888 First Street, NE., Washington, DC 20426, or call (202)502-8371. For instructions on connecting to eLibrary refer to the last page of this notice. Copies of the appendices were sent to all those receiving this notice in the mail.

Land Requirements for Construction

Construction of the proposed facilities would require about 81 acres of land. Following construction, about 47 acres would be maintained as new permanent pipeline right-of-way. The remaining 34 acres of land would be restored and allowed to revert to its former use. Tennessee Gas would use a total construction right-of-way width of 75 to 100 feet during construction. Following construction, Tennessee Gas would maintain the pipeline in a 50-foot-wide permanent right-of-way easement with periodic mowing. Tennessee Gas' construction right-of-way would overlap NEPCO's maintained right-of-way by as much as 50 feet. Tennessee Gas proposes to use unidentified additional land for pipe yards and staging areas.

The EA Process

The National Environmental Policy Act (NEPA) requires the Commission to take into account the environmental impacts that could result from an action whenever it considers the issuance of a Certificate of Public Convenience and Necessity. NEPA also requires us to discover and address concerns the public may have about proposals. This process is referred to as “scoping.” The main goal of the scoping process is to focus the analysis in the EA on the important environmental issues. By this Notice of Intent, the Commission staff requests public comments on the scope of the issues to address in the EA. All comments received are considered during the preparation of the EA. State and local government representatives are encouraged to notify their constituents of this proposed action and encourage them to comment on their areas of concern.

In the EA we ³ will discuss impacts that could occur as a result of the construction and operation of the proposed project under these general headings:

³ “We”, “us”, and “our” refer to the environmental staff of the Office of Energy Projects (OEP).

• Residential and planned development

• Construction air quality and noise

• Land use impacts

• Public safety

• Water resources (groundwater, drinking water, and streams), fisheries, and wetlands

• Vegetation

• Geology and soils

• Wildlife, including endangered and threatened species

• Hazardous waste

• Cultural resources

We will also evaluate possible alternatives to the proposed project or portions of the project, and make recommendations on how to lessen or avoid impacts on the various resource areas.

Our independent analysis of the issues will be in the EA. Depending on the comments received during the scoping process, the EA may be published and mailed to federal, state, and local agencies, public interest groups, interested individuals, affected landowners, newspapers, libraries, and the Commission's official service list for this proceeding. A comment period will be allotted for review if the EA is published. We will consider all comments on the EA before we make our recommendations to the Commission.

To ensure your comments are considered, please carefully follow the instructions in the public participation section below.

Currently Identified Environmental Issues

We have already identified several issues that we think deserve attention based on a preliminary review of the proposed facilities and the environmental information provided by Tennessee Gas. This preliminary list of issues may be changed based on your comments and our analysis.

• Impacts to sixteen residences within 50 feet of the construction work area;

• Clearing of approximately 27 acres of forest and construction in approximately 26 acres of wetlands and stream crossings;

• Impacts to Reedy Meadow National Natural Landmark, also a Massachusetts designated potentially sensitive habitat area; Golden Hills—a Massachusetts designated Area of Critical Environmental Concern; and the Breakheart Reservation—a Massachusetts designated recreational and potentially sensitive habitat area; and

• Potential visual and aesthetic impact to the Breakheart Reservation Parkway and Lynn Fells Parkway National Register of Historic Places Districts

Public Participation

You can make a difference by providing us with your specific comments or concerns about the project. By becoming a commentor, your concerns will be addressed in the EA and considered by the Commission. You should focus on the potential environmental effects of the proposal, alternatives to the proposal, including alternative routes, and measures to avoid or lessen environmental impact. The more specific your comments, the more useful they will be. Please carefully follow these instructions to ensure that your comments are received in time and properly recorded:

• Send an original and two copies of your letter to: Magalie R. Salas, Secretary, Federal Energy Regulatory Commission, 888 First St., NE., Room 1A, Washington, DC 20426.

• Label one copy of the comments for the attention of Gas Branch 2.

• Reference Docket No. CP06-018-000.

• Mail your comments so that they will be received in Washington, DC on or before December 21, 2005.

Please note that we are continuing to experience delays in mail deliveries from the U.S. Postal Service. As a result, we will include all comments that we receive within a reasonable time frame in our environmental analysis of this project. However, the Commission strongly encourages electronic filing of any comments or interventions or protests to this proceeding. See 18 CFR 385.2001(a)(1)(iii) and the instructions on the Commission's Web site at http://www.ferc.gov under the “e-Filing” link and the link to the User's Guide. Before you can file comments you will need to create a free account which can be created on-line.

If you do not want to send comments at this time but still want to remain on our mailing list, please return the Information Request (Appendix 3). If you do not return the Information Request, you will be taken off the mailing list.

Notice of Site Visit and Public Comment Meeting

The OEP staff will conduct a site visit on December 14, 2005 to inspect Tennessee Gas' proposed pipeline route and project for the Essex-Middlesex Project. The areas will be inspected by automobile. Representatives of Tennessee Gas will accompany the OEP staff. Anyone interested in participating in the December 14 site visit should meet at the parking lot of the Hill Top Steakhouse at 9 am in Saugus, Massachusetts, located at 855 Broadway Street off of Route U.S. 1 South. Participants must provide their own transportation.

In addition to or in lieu of sending written comments, we invite you to attend the public scoping meeting the FERC will conduct in the project area. The public scoping meeting will be held jointly with a public hearing conducted by the Massachusetts Energy Facilities Siting Board. The location and time for the meeting is listed below:

Date and Time: December 14, 2005, 7 p.m.

Location: Wakefield High School—Cafeteria, 60 Farm St, Wakefield, Massachusetts 01880, (781) 246-6440.

The public scoping meetings are designed to provide you with more detailed information and another opportunity to offer your comments on the proposed project. Tennessee Gas representatives will be present at the scoping meetings to describe their proposal. Interested groups and individuals are encouraged to attend the meetings and to present comments on the environmental issues they believe should be addressed in the EA. A transcript of each meeting will be made so that your comments will be accurately recorded.

For additional information, contact the Commission's Office of External Affairs at 1-866-208-FERC.

Becoming an Intervenor

In addition to involvement in the EA scoping process, you may want to become an official party to the proceeding, or “intervenor.” To become an intervenor you must file a motion to intervene according to Rule 214 of the Commission's Rules of Practice and Procedure (18 CFR 385.214). Intervenors have the right to seek rehearing of the Commission's decision. Motions to Intervene should be electronically submitted using the Commission's eFiling system at http://www.ferc.gov. Persons without Internet access should send an original and 14 copies of their motion to the Secretary of the Commission at the address indicated previously. Persons filing Motions to Intervene on or before the comment deadline indicated above must send a copy of the motion to the Applicant. All filings, including late interventions, submitted after the comment deadline must be served on the Applicant and all other intervenors identified on the Commission's service list for this proceeding. Persons on the service list with email addresses may be served electronically; others must be served a hard copy of the filing.

Affected landowners and parties with environmental concerns may be granted intervenor status upon showing good cause by stating that they have a clear and direct interest in this proceeding which would not be adequately represented by any other parties. You do not need intervenor status to have your environmental comments considered.

Environmental Mailing List

An effort is being made to send this notice to all individuals, organizations, and government entities interested in and/or potentially affected by the proposed project. This includes all landowners who are potential right-of-way grantors, whose property may be used temporarily for project purposes, or who own homes within distances defined in the Commission's regulations of certain aboveground facilities. By this notice we are also asking governmental agencies, especially those in Appendix 2, to express their interest in becoming cooperating agencies for the preparation of the EA.

Additional Information

Additional information about the project is available from the Commission's Office of External Affairs, at 1-866-208-FERC or on the FERC Internet Web site (http://www.ferc.gov) using the eLibrary link. Click on the eLibrary link, click on “General Search” and enter the docket number excluding the last three digits in the Docket Number field. Be sure you have selected an appropriate date range. For assistance, please contact FERC Online Support at FercOnlineSupport@ferc.gov or toll free at 1-866-208-3676, or for TTY, contact (202) 502-8659. The eLibrary link also provides access to the texts of formal documents issued by the Commission, such as orders, notices, and rulemakings.

In addition, the Commission now offers a free service called eSubscription which allows you to keep track of all formal issuances and submittals in specific dockets. This can reduce the amount of time you spend researching proceedings by automatically providing you with notification of these filings, document summaries and direct links to the documents. Go to http://www.ferc.gov/esubscribenow.htm.

Finally, public meetings or site visits will be posted on the Commission's calendar located at http://www.ferc.gov/EventCalendar/EventsList.aspx along with other related information.

Magalie R. Salas,
Secretary.

[FR Doc. E5-6926 Filed 12-6-05; 8:45 am]

BILLING CODE 6717-01-P